POSTAL SERVICE

United States Postal Service Board of Governors; Sunshine Act Meeting

Date and Times: Tuesday, January 10, 2006; 8 a.m. and 10 a.m.

Place: Washington, DC, at U.S. Postal Service Headquarters, 475 L'Enfant Plaza, SW., in the Benjamin Franklin Room.

Status: January 10—8 a.m. (Open); 10 a.m. (Closed).

Matters to be Considered:

Tuesday, January 10 at 8 a.m. (Open)

1. Minutes of the Previous Meeting, December 6, 2005.

2. Remarks of the Postmaster General and CEO Jack Potter.

3. Holiday Mailing Recap.

4. Committee Reports.

5. Consideration of Board Resolution on Capital Funding.

6. Annual Report on Government in the Sunshine Act Compliance.

7. Fiscal Year 2005 Comprehensive Statement on Postal Operations, including the Preliminary Fiscal Year 2007 Annual Performance Plan—GPRA.

8. Capital Investment—Northeast Metro Michigan Processing & Distribution Center.

9. Election of Chairman and Vice Chairman of the Board of Governors.

10. Tentative Agenda for the February 7-8, 2006, meeting in Washington, DC.

Tuesday, January 10 at 10 a.m. (Closed)

1. Filing with the Postal Rate Commission for Extension of Market Test for Repositionable Notes.

2. Strategic Planning.

3. Financial Update.

4. Rate Case Planning.

5. Labor Negotiations Planning.

6. Personnel Matters and Compensation Issues.

FOR FURTHER INFORMATION CONTACT: William T. Johnstone, Secretary of the Board, U.S. Postal Service, 475 L'Enfant Plaza, SW., Washington, DC 20260-1000. Telephone (202) 268-4800.

William T. Johnstone,
Secretary.

[FR Doc. 05-24685 Filed 12-28-05; 11:36 am]

BILLING CODE 7710-12-M